DEPARTMENT OF ENERGY

Federal Energy Regulatory Commission

[Docket No. EL22-44-000]

Grand River Dam Authority; Notice of Conference Call

On Monday, June 13, 2022, Commission staff will hold a conference call with Grand River Dam Authority (Grand River) beginning at 2:00 p.m. (Eastern Time). The purpose of the conference call is to discuss Grand River's formula rate protocols. The discussion during the conference call will be limited to this matter.

All interested parties are invited to listen by phone. The conference call will not be webcasted or transcribed. However, an audio listen-only line will be provided. Those wishing to access the listen-only line must email Nishi Parekh at Nishi.Parekh@ferc.gov by 5:00 p.m. (Eastern Time) on Thursday, June 9, 2022, with your name, email, and phone number, in order to receive the call-in information before the conference call. Please use the following text for the subject line, “EL22-44-000 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Nishi Parekh at (202) 502-8325 or Nishi.Parekh@ferc.gov.

Dated: June 1, 2022.
Debbie-Anne A. Reese,
Deputy Secretary.

[FR Doc. 2022-12238 Filed 6-6-22; 8:45 am]

BILLING CODE 6717-01-P